DEPARTMENT OF COMMERCE

National Oceanic and Atmospheric Administration

RIN 0648-XV085

Western Pacific Fishery Management Council; Public Meetings; Correction

AGENCY: National Marine Fisheries Service (NMFS), National Oceanic and Atmospheric Administration (NOAA), Commerce.

ACTION: Notice of correction of public meetings.

SUMMARY: The Western Pacific Fishery Management Council (Council) will hold its 134th Scientific and Statistical Committee (SSC) meeting, American Samoa Archipelago Fishery Ecosystem Plan Advisory Panel (AP), American Samoa Regional Ecosystem Advisory Committee (REAC), Executive and Budget Standing Committee, and its 180th Council meeting to take actions on fishery management issues in the Western Pacific Region. This notice announces the cancellation of the Pelagic and International Standing Committee meeting included in the original notice, corrects the agenda for the Executive and Budget Standing Committee meeting, and corrects the venue for the AP meeting.

DATES: The meetings will be held between October 15 and October 24, 2019. For specific times and agendas, see SUPPLEMENTARY INFORMATION. All times listed are local island times.

ADDRESSES: The 134th SSC will be held at the Council Office Conference Room, 1164 Bishop St. Suite 1400, Honolulu HI 96813, phone: (808) 522-8220. The AP and the Executive and Budget Standing Committee will be held at Sadie's by the Sea, Utulei Beach, Route 1, Pago Pago, American Samoa, phone: (684) 633-5900. The REAC and 180th Council meeting will be held at Governor Tauese P.F. Sunia Ocean Center, Pago-Pago, American Samoa, phone: (684) 633-6500.

FOR FURTHER INFORMATION CONTACT: Contact Kitty M. Simonds, Executive Director, Western Pacific Fishery Management Council; phone: (808) 522-8220.

SUPPLEMENTARY INFORMATION: The original notice published in the Federal Register on September 30, 2019 (84 FR 51519).

The 134th SSC meeting will be held between 8:30 a.m. and 5 p.m. on October 15-17, 2019. The REAC will be held between 9 a.m. and 3 p.m. on October 18, 2019. The AP will be held between 4 p.m. and 6 p.m. on October 18, 2019. The Executive and Budget Standing Committee will be held between 8:30 a.m. and 10:30 a.m. on October 21, 2019. The 180th Council Meeting will be held on October 22, 2019, between 9 a.m. and 5 p.m. with a Public Comment for Non-Agenda Items between 4 p.m. and 5 p.m. and a Fishers Forum between 6 p.m. and 9 p.m. The Council meeting continues on October 23, 2019, between 8:30 p.m. and 5 p.m. and on October 24, 2019, between 8:30 a.m. and 12 noon. Agenda items noted as “Final Action Items” refer to actions that result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for 134th SSC Meeting

Tuesday, October 15, 2019, 8:30 a.m. to 5 p.m.

1. Introductions

2. Approval of Draft Agenda and Assignment of Rapporteurs

3. Status of the 132nd and 133rd SSC Meeting Recommendations

4. Report from Pacific Islands Fisheries Science Center (PIFSC) Director

5. Program Planning and Research

A. Fishing Community Perceptions on of the Marine Protected Area (MPA) Siting Process and its Implications

B. Report on SSC Working Group on National Standard (NS) 1 Technical Guidance on Phase-Ins and Carry-Over

C. Report on the Pacific Insular Fisheries Monitoring Assessment Planning Summit (PIFMAPS)

D. Updates to the Spatial Management Workshop Planning

E. Report to Congress on Section 201 of Modernizing Recreational Fisheries Act

F. Report on the 2019 Annual Climate Change Collaborative

G. Public Comment

H. SSC Discussion and Recommendations

6. Island Fisheries

A. Report on the Western Pacific Stock Assessment Review (WPSAR) of the Territorial Bottomfish Benchmark Stock Assessment

B. Peer-Reviewed Benchmark Stock Assessment of the Bottomfish Management Unit Species Complex in American Samoa, Guam and Commonwealth of Northern Mariana Islands (CNMI)

C. Guam Reef Fish Stock Assessment

D. Review of the Terms of Reference for the Main Hawaiian Islands Aprion virescens (uku) Benchmark Stock Assessment

E. Public Comment

F. SSC Discussion and Recommendations

Wednesday, October 16, 2019, 8:30 a.m. to 5 p.m.

7. Protected Species

A. False Killer Whale Abundance Estimates

B. Updates on Endangered Species Act (ESA) and Marine Mammal Protection Act (MMPA) Actions

1. Status of ESA Consultations for the Hawaii Deep-Set Longline, American Samoa Longline, and Bottomfish Fisheries

2. Southern Exclusion Zone Potential Reopening Date

3. Insular False Killer Whale Recovery Plan

C. Public Comment

D. SSC Discussion and Recommendations

8. Pelagic Fisheries

A. American Samoa Longline Fishery Report

B. Hawaii Longline Report Fishery Report

C. Oceanic Whitetip Shark Assessment and Projections

D. Pelagic Fisheries Research Plan Updates

E. Update on Electronic Reporting in the Hawaii Longline Fisheries

F. Assessing Population Level Impacts of Marine Turtle Interactions in the Hawaii and American Samoa Longline Fisheries

G. Evaluating Additional Mitigation Measures under the Hawaii Shallow-set Longline Fishery Biological Opinion Reasonable and Prudent Measures

H. International Fisheries Meetings

1. Inter-American Tropical Tuna Commission (IATTC) Annual Meeting

2. 19th International Science Committee (ISC) Plenary Outcomes

3. 15th Western-Central Pacific Fisheries Commission (WCPFC) Science Committee (SC)

4. WCPFC Technical and Compliance Committee

5. WCPFC Permanent Advisory Committee

6. WCPFC Northern Committee

I. Public Comment

J. SSC Discussion and Recommendations

Thursday, October 17, 2019, 8:30 a.m. to 5 p.m.

9. Other Business

A. 2020 SSC Meetings Dates

10. Summary of SSC Recommendations to the Council

Agenda for the REAC Meeting

Friday, October 18, 2019, 9 a.m. to 3 p.m.

1. Welcome and Introductions

2. Overview of the REAC 2018 meeting

3. Information Sourcing for Local Fishery Ecosystem Impacts of Climate Change

4. Information Sourcing for Local Data Sources to Support Research

5. Setting Local Research Priorities for Climate Change Impacts on the Fishery Ecosystem (Including Pelagics)

6. Geographic Information System (GIS) Mapping of Fishing Grounds and Coral Reef Coverage

7. Climate Change Adaptation Framework

8. Sanctuary Action Plan(s)

9. Discussion on Coral Reef Grant Projects

10 Public Comment

11. Other Business

12. Discussion and Recommendations

Agenda for the AP Meeting

Friday, October 18, 2019, 4 p.m. to 6 p.m.

1. Welcome and Introductions

2. Review of the last AP meeting and recommendations

3. 180th Council Meeting Action Items and Issues

A. Territorial Bottomfish Stock Assessment

B. Pacific Insular Fisheries Monitoring and Assessment Planning Summit

4. American Samoa Reports

A. Community Report

B. Education Report

C. Island Report

D. Legislative Report

5. Island Fishery Issues & Activities

A. Issues

1. US Coast Guard (USCG) Rotation Working Group Report

B. Activities

1. Longline Fresh Fish Sustainable Fisheries Fund (SFF) Project

2. Bottomfish Training SFF Project

3. American Samoa Education and Outreach SFF Project

6. Public Comments

7. Discussion and Recommendations

8. Other Business

Agenda for Executive and Budget Standing Committee

Monday, October 21, 2019, 8:30 a.m. to 10:30 a.m.

1. Financial Reports

A. Current Grants

B. New Grants

2. Administrative Reports

3. Freedom of Information Act (FOIAs) and Congressional Requests

4. Council Statement Organization Practices and Procedures (SOPP)

5. Policy on Indirect Cost

6. Pelagic Fishery Issues

7. Council Coordinating Committee (CCC)

A. Geographic Strategic Plan

B. Council Member Ongoing Development

8. Council Family Changes

9. Meetings and Workshops

10. Election of Officers

11. Other Issues

12. Public Comment

13. Discussion and Recommendations

Agenda for 180th Council Meeting

Tuesday, October 22, 2019, 9 a.m. to 5 p.m.

1. Welcoming Ceremony

2. Remarks by Honorable Governor Lolo Matalasi Moliga

3. Welcome and Introductions

4. Oath of Office

5. Approval of the 180th Agenda

6. Approval of the 178th and 179th Meeting Minutes

7. Executive Director's Report

8. Agency Reports

A. National Marine Fisheries Service

1. Pacific Islands Regional Office

2. PIFSC

B. NOAA Office of General Counsel, Pacific Islands Section

C. National Marine Sanctuary Update

D. U.S. State Department

E. U.S. Fish and Wildlife Service

F. Enforcement

1. U.S. Coast Guard

a. Report on USCG Rotation Working Group Meeting

2. NOAA Office of Law Enforcement

3. NOAA Office of General Counsel, Enforcement Section

G. Public Comment

H. Council Discussion and Action

9. American Samoa Archipelago

A. Motu Lipoti

1. Data Collection Programs and Fishery Presentations

2. Report on Data Collection Improvement Efforts from PIFMAPS

3. National Marine Sanctuary of American Samoa Research Plan

B. Fono Report

C. Enforcement Issues

1. Marine Safety Detachment Rotation Update

D. Community Activities and Issues

1. American Samoa Ocean Plan

2. American Samoa Gross Domestic Product and Importance of the Cannery

3. American Samoa Government Development Projects

a. Aunu'u Alia Development Project

b. Malaloa Dock Expansion

c. Longline Fresh Fish Project

d. Bottomfish Fresh Fish Project

4. Fagatogo Fish Market

5. Fishing Tournaments

a. 2nd Pago Pago Open Fishing Tournament

b. 1st All Manua Alia Fishing Tournament

E. Education and Outreach Initiatives

1. AS High School Summer Course Recap

F. Advisory Group Report and Recommendations

1. American Samoa Fishery Ecosystem Plan AP

2. American Samoa REAC

3. SSC

G. Public Comment

H. Council Discussion and Action

Tuesday, October 22, 2019, 4 p.m. to 5 p.m.

10. Public Comment on Non-Agenda Items

Tuesday, October 22, 2019, 6 p.m. to 9 p.m.

Fishers Forum—Palolo Harvest: Science and Traditions

Wednesday, October 23, 2019, 8:30 a.m. to 5 p.m.

11. Pelagic & International Fisheries

A. American Samoa Longline Annual Fishery Report

B. Hawaii Longline Annual Fishery Report

C. Oceanic Whitetip Shark Stock Assessment and Projections

D. Evaluating Additional Mitigation Measures under the Hawaii Shallow-set Longline Fishery Biological Opinion Reasonable and Prudent Measures

E. Assessing Population Level Impacts of Marine Turtle Interactions in the Hawaii and American Samoa Longline Fisheries

F. Electronic Reporting in the Hawaii Longline Fishery

1. Status of Electronic Reporting Implementation

2. Mandatory Electronic Reporting

G. International Fisheries

1. IATTC Commission Meeting

2. WCPFC

a. 19th ISC Plenary

b. 15th Science Committee

c. 15th Technical and Compliance Committee

d. 15th Northern Committee

e. Permanent Advisory Committee

3. North Pacific Fisheries Commission

a. 4th Technical and Compliance Committee

b. 5th Annual Session of the Commission

4. 3rd Session of the BBNJ Conference

H. Advisory Group Report and Recommendations

1. AP

2. REAC

3. SSC

I. Standing Committee Report and Recommendations

J. Public Comment

K. Council Discussion and Action

12. Protected Species

A. Northwest Hawaiian Islands Green Turtle Research Update

B. False Killer Whale Abundance Estimates

C. Updates on ESA and MMPA Actions

1. Status of ESA Consultations for the Hawaii Deep-Set Longline, American Samoa Longline, and Bottomfish Fisheries

2. Southern Exclusion Zone Potential Reopening Date

3. Insular False Killer Whale Recovery Plan

4. Status of Recovery Plan Implementation for Pacific Green Turtle Populations

D. Advisory Group Report and Recommendations

1. AP

2. REAC

3. SSC

E. Public Comment

F. Council Discussion and Action

13. Program Planning and Research

A. Legislative Report

B. Report on the WPSAR of the Territorial Bottomfish Benchmark Stock Assessment

C. Peer-Reviewed Benchmark Stock Assessment of the Bottomfish Management Unit Species Complex in American Samoa, Guam and CNMI

D. Report on the NS1 Subgroup on Carry-Over and Phase-Ins

E. Report on the CCC Habitat Working Group Workshop

F. Pacific Insular Fisheries Monitoring and Assessment Planning Summit

G. Report to Congress on Section 201 of Modernizing Recreational Fisheries Act

H. Updates to the Spatial Management Workshop Planning

I. Report on the Annual Climate Change Collaborative Meeting

J. OceanObs 19

K. First Stewards

L. Deep Sea Mining Watch and Mining Expansion

M. Regional, National, & International Outreach & Education

N. Advisory Group Report and Recommendations

1. REAC

2. AP

3. SSC

O. Public Comment

P. Council Discussion and Action

Thursday, October 24, 2019, 8:30 a.m. to 12 p.m.

14. Mariana Archipelago

A. Guam

1. Isla Informe

a. Report on Data Collection Improvement Efforts from PIFMAPS

2. Legislative Report

a. SCUBA ban bill

b. Fishing License Update

3. Enforcement Issues

4. Community Activities and Issues

a. Update on Marine Conservation Plan (MCP) Review

5. Guam Reef Fish Stock Assessment

6. Education and Outreach Initiatives

a. High School Summer Course Recap

b. Guam Fisherman Cooperative Association International Derby

B. CNMI

1. Arongol Falú

a. Report on Data Collection Improvement Efforts from PIFMAPS

2. Legislative Report

a. Surround net bill

b. Sunscreen bill

c. Minimum size bill

3. Enforcement Issues

4. Community Activities and Issues

a. Update on MCP Review

b. Garapan Fishing Base Update

c. Bottomfish Training Project

d. Mandatory Data Regulations Update

5. Education and Outreach Initiatives

a. Fishing Tournaments and Derbies

b. High School Summer Course Recap

C. Advisory Group Reports and Recommendations

1. Mariana Archipelago Fishery Ecosystem Plan AP

2. REAC

a. Guam REAC

b. CNMI REAC

3. SSC

D. Public Comment

E. Council Discussion and Action

15. Hawaii Archipelago & Pacific Remote Island Areas

A. Moku Pepa

B. Legislative Report

C. Enforcement Issues

D. Ocean Resource Management of Hawaii

E. Review of the Terms of Reference for the Main Hawaiian Islands Aprion virescens (uku) Benchmark Stock Assessment

F. Updates on the Hawaii BioSampling Project

G. Review of Hawaii Small-Boat Fishery Performance under the Fishery Ecosystem Plans

G. Education and Outreach Initiatives

H. Advisory Group Report and Recommendations

1. Hawaii Archipelago Fishery Ecosystem Plan AP

2. Guam REAC

3. CNMI REAC

4. SSC

I. Public Comment

J. Council Discussion and Action

16. Administrative Matters

A. Ethics Training

B. Financial Reports

C. Administrative Reports

D. Statement Organization Practices and Procedures

E. Policy on Indirect Cost

F. CCC—Council Member Ongoing Development

G. Geographic Strategic Plan

H. Council Family Changes

I. Meetings and Workshops

J. Standing Committee Report and Recommendations

K. Public Comment

L. Council Discussion and Action

17. Election of Officers

18. Other Business

Non-emergency issues not contained in this agenda may come before the Council for discussion and formal Council action during its 180th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: October 3, 2019.
Tracey L. Thompson,
Acting Deputy Director, Office of Sustainable Fisheries, National Marine Fisheries Service.

[FR Doc. 2019-21901 Filed 10-7-19; 8:45 am]

BILLING CODE 3510-22-P